DEPARTMENT OF LABOR

Employment and Training Administration

[TA-W-38, 303; TA-W-38, 303A]

CMI Industries Inc.; Amended Certification Regarding Eligibility To Apply for Worker Adjustment Assistance

In accordance with section 223 of the Trade Act of 1974 (19 USC 2273) the Department of Labor issued a Notice of Certification Regarding Eligibility to Apply for Worker Adjustment Assistance on December 28, 2000, applicable to workers of CMI Industries, Inc., Geneva, Alabama. The notice was published in the Federal Register on January 11, 2001 (66 FR 2450).

At the request of the company, the Department reviewed the certification for workers of the subject firm. New information shows that worker separations occurred at the New York Sales Offices, Greige Division Sales of CMI Industries, New York, New York. Workers at the New York Sales Offices, Greige Division Sales provide administrative services to support the production of greige woven fabric at the subject firms' manufacturing facilities.

Based on these findings, the Department is amending the certification to include workers of the New York Sales Offices, greige Division Sales, CMI Industries, Inc., New York, New York.

The intent of the Department's certification is to include all workers of CMI Industries, Inc. who were adversely affected by increased imports of greige woven fabric.

The amended notice applicable to TA-W-38, 303 is hereby issued as follows;

All workers of CMI Industries, Inc., Geneva, Alabama (TA-W-38, 303) and New York Sales Offices, Greige Division Sales, New York, New York (TA-W-38, 303A) who became totally or partially separated from employment on or after October 27, 1999, through December 28, 2002 are eligible to apply for adjustment assistance under Section 223 of the Trade Act of 1974.

Signed at Washington, DC this 12th day of June, 2001.
Linda G. Poole,
Certifying Officer, Division of Trade Adjustment Assistance.

[FR Doc. 01-16151 Filed 6-26-01; 8:45 am]

BILLING CODE 4510-30-M